DEPARTMENT OF AGRICULTURE

Forest Service

White Pine-Nye Resource Advisory Committee

AGENCY: Forest Service, USDA.

ACTION: Notice of meetings.

SUMMARY: The White Pine-Nye Resource Advisory Committee (RAC) will meet in Round Mountain, Nevada. The RAC is authorized under the Secure Rural Schools and Community Self-Determination Act (the Act) (Pub. L. 110-343) and operates in compliance with the Federal Advisory Committee Act of 1972 (5 U.S.C. App. 2). The purpose of the RAC is to improve collaborative relationships and to provide advice and recommendations to the Forest Service concerning projects and funding consistent with the Title II of the Act. The meetings are open to the public. Additional information concerning the RAC, including the agenda, can be found by visiting the RAC's Web site at: https://fsplaces.fs.fed.us/fsfiles/unit/wo/secure_rural_schools.ns.

DATES: The meetings will be held at 10:00 a.m. on the following dates:

• September 25, 2014

• September 29, 2014

All RAC meetings are subject to cancellation. For status of meeting prior to attendance, please contact the person listed under FOR FURTHER INFORMATION CONTACT.

ADDRESSES: The meetings will be held at the Round Mountain Public Library, 73 Hadley Circle, Round Mountain, Nevada.

Written comments may be submitted as described under SUPPLEMENTARY INFORMATION. All comments, including names and addresses when provided, are placed in the record and are available for public inspection and copying. The public may inspect comments received at Tonopah Ranger District Office. Please call ahead to facilitate entry into the building.

FOR FURTHER INFORMATION CONTACT: Linda Bernardi, RAC Coordinator, by phone at 775-482-6286 or via email at lebernardi@fs.fed.us.

Individuals who use telecommunication devices for the deaf (TDD) may call the Federal Information Relay Service (FIRS) at 1-800-877-8339 between 8:00 a.m. and 8:00 p.m., Eastern Standard Time, Monday through Friday.

SUPPLEMENTARY INFORMATION: The purpose of the meetings is to discuss Sagehen Spring Restoration Project and discuss recruitment needs for additional committee members. The agenda will include time for people to make oral statements of three minutes or less. Individuals wishing to make an oral statement should request in writing by September 19, 2014 to be scheduled on the agenda. Anyone who would like to bring related matters to the attention of the RAC may file written statements with the committee staff before or after the meeting. Written comments and requests for time for oral comments must be sent to Linda Bernardi, RAC Coordinator, Tonopah Ranger District, P.O. Box 3940, Tonopah, Nevada 89049; by email to lebernardi@fs.fed.us, or via facsimile to 775-482-3053.

Meeting Accommodations: If you are a person requiring reasonable accommodation, please make requests in advance for sign language interpreting, assistive listening devices or other reasonable accommodation for access to the facility or proceedings by contacting the person listed in the section titled FOR FURTHER INFORMATION CONTACT. All reasonable accommodation requests are managed on a case by case basis.

Dated: September 3, 2014.
William A. Dunkelberger,
Forest Supervisor.

[FR Doc. 2014-21538 Filed 9-9-14; 8:45 am]

BILLING CODE 3411-15-P